NUCLEAR REGULATORY COMMISSION

Sunshine Act; Meeting Notice

Agency Holding the Meetings: Nuclear Regulatory Commission.

DATES: Weeks of November 16, 23, 30, December 7, 14, 21, 2009.

Place: Commissioners' Conference Room, 11555 Rockville Pike, Rockville, Maryland.

Status: Public and Closed.

Week of November 16, 2009

Tuesday, November 17, 2009

9:25 a.m. Affirmation Session (Public Meeting) (Tentative). a. Detroit Edison Co. (Fermi Nuclear Power Plant, Unit 3), LBP-09-16 (July 31, 2009) (Ruling on Standing and Contention Admissibility) (Tentative.) b. In the Matter of David Geisen, Docket No. IA-05-052; Staff Application for Stay of the Effectiveness of LBP-09-24 Pending Commission Review (Tentative).

This meeting will be webcast live at the Web address— http://www.nrc.gov.

9:30 a.m. Briefing on Equal Employment Opportunity (EEO) and Small Business Programs (Public Meeting), (Contact: Elva Bowden Berry, 301-415-1536).

This meeting will be webcast live at the Web address— http://www.nrc.gov.

Week of November 23, 2009—Tentative

There are no meetings scheduled for the week of November 23, 2009.

Week of November 30, 2009—Tentative

Friday, December 4, 2009

9:30 a.m. Meeting with the Advisory Committee on Reactor Safeguards, (Public Meeting) (Contact: Antonio Dias, 301-415-6805).

This meeting will be webcast live at the Web address— http://www.nrc.gov.

Week of December 7, 2009—Tentative

Tuesday, December 8, 2009

9:30 a.m. Briefing on the Proposed Rule: Enhancements to Emergency Preparedness Regulations (Public Meeting), (Contact: Lauren Quiñones, 301-415-2007).

This meeting will be webcast live at the Web address— http://www.nrc.gov.

Week of December 14, 2009—Tentative

There are no meetings scheduled for the week of December 14, 2009.

Week of December 21, 2009—Tentative

There are no meetings scheduled for the week of December 21, 2009.

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: November 12, 2009.
Rochelle C. Bavol,
Office of the Secretary.

[FR Doc. E9-27646 Filed 11-13-09; 4:15 pm]

BILLING CODE 7590-01-P